DEPARTMENT OF THE INTERIOR

Fish and Wildlife Service

[FWS-R4-ES-2018-N068; FXES11140400000-178-FF04EF2000]

Four Habitat Conservation Plans for Sand Skink and Blue-Tailed Mole Skink, Polk and Osceola Counties, FL

AGENCY: Fish and Wildlife Service, Interior.

ACTION: Notice of availability; request for comments and information.

SUMMARY: We, the Fish and Wildlife Service, announce receipt of four incidental take permit (ITP) applications and four habitat conservation plans (HCPs). Each of the four applicants requests an ITP under the Endangered Species Act. If granted, the ITPs would authorize take of the sand skink and blue-tailed mole skink via destruction of the species' feeding, breeding, and sheltering habitat. The applicants are Tohopekaliga Water Authority; Mystic Dunes, LLC; Clay Cut, LLC; and Land Acquisition One, LLC. We invite comments from the public and Federal, Tribal, State, and local governments on the four applicants' HCPs, and our draft environmental action statements and low-effect screening forms, which support categorical exclusions under the National Environmental Policy Act.

DATES: We must receive your written comments on or before August 6, 2018.

ADDRESSES: Obtaining Documents: You may obtain copies of the documents by any of the following methods:

• Telephone: Alfredo Begazo, 772-469-4234 (telephone).

• Email: alfredo_begazo@fws.gov.

• U.S. mail: Alfredo Begazo, South Florida Ecological Services Office; Attn: [Insert appropriate ITP numbers; see SUPPLEMENTARY INFORMATION; U.S. Fish and Wildlife Service; 1339 20th Street; Vero Beach, FL 32960-3559. In addition, we will make the documents available for public inspection by appointment during normal business hours at this address. Please call to make an appointment.

Submitting Comments: If you wish to comment on any of the documents, you may do so via any one of the following methods:

• Email: alfredo_begazo@fws.gov. Use “Attn: ITP numbers [Insert appropriate ITP numbers; see SUPPLEMENTARY INFORMATION” as your message subject line.

• Fax: Alfredo Begazo, 772-562-4288, “[Attn.: [Insert appropriate ITP numbers; see SUPPLEMENTARY INFORMATION.”

• U.S. mail or hand-delivery: See our South Florida Ecological Services Office address, above. Be sure to specify clearly the ITP applications on which you are commenting.

FOR FURTHER INFORMATION CONTACT: Mr. Alfredo Begazo, telephone: 772-469-4234.

SUPPLEMENTARY INFORMATION: We, the Fish and Wildlife Service (Service), announce receipt of four incidental take permit (ITP) applications and four habitat conservation plans (HCPs). Each of the four applicants requests an ITP under section 10(a)(1)(B) of the Endangered Species Act of 1973, as amended (ESA; 16 U.S.C. 1531 et seq.). The applicants and potential ITP numbers are:

• Tohopekaliga Water Authority (TE69950C-0).

• Mystic Dunes, LLC (TE69951C-0).

• Clay Cut, LLC (TE69952C-0).

• Land Acquisition One, LLC (TE69953C-0).

Each applicant seeks authority to take sand skink (Neoseps reynoldsi) and blue-tailed mole skink (Eumeces egregius) via destruction of the species' feeding, breeding, and sheltering habitat incidental to land preparation and construction in Polk and Osceola Counties, Florida. The applicants' proposed HCPs provide measures to mitigate for the effects of their respective construction activities on the species, which were federally-listed as threatened in 1987 (November 6, 1987; 52 FR 42658).

Applicants' Proposed Projects

• Tohopekaliga Water Authority (TE69950C-0) anticipates taking 2.2 acres of species' habitat, incidental to land preparation and construction in Sections 10 and 11, Township 25 South, Range 28 East, in Polk County, Florida.

• Mystic Dunes, LLC (ITP TE69951C-0) anticipates taking 6.7 acres of species' habitat incidental to land preparation and construction in Section 15, Township 25 South, Range 27 East, in Osceola County, Florida.

• Clay Cut, LLC (ITP TE69952C-0) anticipates taking 8.6 acres of species' habitat incidental to land preparation and construction in Section 3, Township 27 South, Range 28 East, in Polk County, Florida.

• Land Acquisition One, LLC (ITP TE69953C-0) anticipates taking 11.2 acres of species' habitat incidental to land preparation and construction in Sections 18 and 19, Township 25 South, Range 27 East, in Osceola County, Florida.

None of the applicants currently has a timeframe for development or specific site plans; however, each applicant intends to develop its parcel by constructing one or more structures and parking areas and installing associated utilities.

The applicants propose to mitigate for impacts to the species by purchasing credits from a Service-approved conservation bank as follows:

• Tohopekaliga Water Authority proposes to purchase the equivalent of 4.4 acres of credits.

• Mystic Dunes, LLC proposes to purchase the equivalent of 13.4 acres of credits.

• Clay Cut, LLC proposes to purchase the equivalent of 17.2 acres of credits.

• Land Acquisition One, LLC proposes to purchase the equivalent of 22.4 acres of credits.

Our Preliminary Determination

The Service has made a preliminary determination that each of the applicants' projects, including the mitigation measures, will individually and cumulatively have a minor or negligible effect on the species. Therefore, we have determined that the ITPs for each of these projects would be “low effect” and qualify for categorical exclusions under the National Environmental Policy Act (NEPA; 42 U.S.C. 4321 et seq.).

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority: We provide this notice under section 10(c) of the ESA (16 U.S.C. 1531 et seq.) and its implementing regulations (50 CFR 17.22 and 17.32) and NEPA (42 U.S.C. 4321 et seq.) and its implementing regulations (40 CFR 1506.6 and 43 CFR 46.305).

Roxanna Hinzman,
Field Supervisor, South Florida Ecological Services Office.

[FR Doc. 2018-14395 Filed 7-3-18; 8:45 am]

BILLING CODE 4333-15-P